DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by April 11, 2022 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food and Nutrition Service

Title: 2023 Farm to School Census.

OMB Control Number: 0584-0646.

Summary of Collection: Section 18 of the Richard B. Russell National School Lunch Act authorized and funded USDA to establish a farm to school program in order to assist eligible entities, through grants and technical assistance, in implementing farm to school programs that improve food and agriculture education as well as access to local foods in schools. This work is housed within the FNS Office of Community Food Systems (OCFS). As part of the Farm to School Program's authorization, OCFS collects and disseminates information on farm to school activity throughout the country. OCFS conducted a national census of farm to school activity in 2013, 2015, and 2019. The Farm to School Census provides the only nationally-representative data available on farm to school participation and activities in the United States.

Need and Use of the Information: The 2023 Farm to School Census (Census) will collect and synthesize data from a national census of SFAs to better understand the characteristics of SFAs participating in farm to school and the scope and details of the activities they engage in (e.g., local food procurement, gardening, agriculture education). The Census will be distributed to all public and private SFAs (including residential child care institutions) participating in the National School Lunch Program (NSLP) in the 50 states, American Samoa, Guam, the Northern Mariana Islands, Puerto Rico, the U.S. Virgin Islands, and Washington, DC.

Description of Respondents: State, Local, or Tribal government, Business or Other For Profit and Not for Profit.

Number of Respondents: 19,056.

Frequency of Responses: Reporting: Once, Annually.

Total Burden Hours: 18,681.

Dated: March 8, 2022.
Ruth Brown,
Departmental Information Collection Clearance Officer.

[FR Doc. 2022-05207 Filed 3-10-22; 8:45 am]

BILLING CODE 3410-30-P